FEDERAL TRADE COMMISSION

[File No. 112 3168]

ABCSP, Inc.; Analysis of Proposed Consent Order To Aid Public Comment

Correction

In notice document 2012-23413 appearing on pages 58838-58840 in the issue of Monday, September 24, 2012, make the following corrections:

1. On page 58839, in the first column, in the seventeenth line, “AABSCP” should read “ABSCP”.

2. On the same page, in the same column, in the fifth to fourth lines from the bottom, ““Write AABSCP” should read “Write” “ABSCP”.

3. On the same page, in the same column, in the second line from the bottom “comment B including” should read “comment-including”.

4. On the same page, in the same column, in the last line “state B will” should read “state-will”.

[FR Doc. C1-2012-23413 Filed 9-28-12; 8:45 am]

BILLING CODE 1505-01-D